DEPARTMENT OF HEALTH AND HUMAN SERVICES

National Institutes of Health

National Institute of General Medical Sciences; Amended Notice of Meeting

Notice is hereby given of a change in the meeting of the National Institute of General Medical Sciences Special Emphasis Panel, November 15, 2011, 12 p.m. to November 15, 2011, 5 p.m., National Institutes of Health, Natcher Building, 45 Center Drive, Room 3AN18A, Bethesda, MD 20892 which was published in the Federal Register on November 1, 2011, 76 FR 67467.

The meeting date and time have been changed to November 21, 2011, 2 p.m. to November 21, 2011, 5 p.m.

The meeting is closed to the public.

Dated: November 4, 2011.
Jennifer S. Spaeth,
Director, Office of Federal Advisory Committee Policy.

[FR Doc. 2011-29140 Filed 11-9-11; 8:45 am]

BILLING CODE 4140-01-P